DEPARTMENT OF THE INTERIOR

[ Geological Survey

[GX16EN05ESB0500]

Agency Information Collection Activities: Request for Comments

AGENCY: U.S. Geological Survey (USGS), Department of the Interior.

ACTION: Notice of a new information collection, Climate Change Effects on Wildlife Virtual Library

SUMMARY: We, U.S. Geological Survey, will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before February 19, 2016.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-NEW, [Climate Change Effects on Wildlife Virtual Library] in all correspondence.

FOR FURTHER INFORMATION CONTACT: Abigail Lynch, Research Fish Biologist, at (703) 648-4097 or ajlynch@usgs.gov.

SUPPLEMENTARY INFORMATION:

I. Abstract

Wildlife is an essential recreational, commercial, and cultural resource to communities worldwide, while also being vital to ecosystem health and function. For our purposes, the term wildlife encompasses mammals, fish, amphibians, reptiles and birds. As climate change and other anthropogenic activities continue to threaten wildlife at a global scale, continued research and increased understanding of the effects of climate change on organisms is imperative for future wildlife management and conservation. Researchers have been studying and speculating on the effects of climate change on wildlife for decades; thus, there is a large body of climate change and wildlife literature available. Traditional search engines provide large outputs of studies and reports that must be individually screened for relevance when searching for climate change effects on specific taxonomic groups. This large output can be burdensome and could result in the exclusion of some studies in analyses. Our goal is to streamline this process for researchers and the public by having a virtual collection of studies highlighting climate change effects (both projected and documented) on wildlife at a global scale. This collection would provide researchers with quicker and easier access to get the information they need in less time and with less effort.

We plan to query research scientists belonging to professional societies and list servers via electronic correspondence and request a list of their already published references to include in the collection. We are specifically looking for published studies addressing projected and documented effects of climate change on wildlife. None of the information contains personal identifiable information. We plan to store all this information in a virtual bibliography that can be updated by a USGS point of contact as more studies are published and included in the database. Furthermore, some of this information may be used to generate external reports (i.e., scientific manuscripts), used in research data input, and in statistical analysis. Our information collection request directly aligns to the mission of the USGS National Climate Change and Wildlife Science Center (NCCWSC). One of NCCWSC's goals is to deliver products, information, and tools to scientists and stakeholders on climate change and wildlife science, and this collection would do just that.

II. Data

OMB Control Number: 1028-NEW.

Title: Climate Change Effects on Wildlife Virtual Library.

Type of Request: New information collection.

Affected Public: English-speaking wildlife research scientists.

Respondent's Obligation: None. Participation is strictly voluntary.

Frequency of Collection: One time to occasionally. Scientists have the option to submit papers one time after the initial request and then periodically as they publish additional relevant papers.

Estimated Annual Number of Respondents: 500. Breakdown: Approximately 350 will be from academic institutions and 150 will be from state or federal agencies.

Estimated Total Number of Annual Responses: 500.

Estimated Time per Response: 5 minutes per response.

Estimated Annual Burden Hours: 41.7 hours.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Shawn Carter,
Senior Scientist.

[FR Doc. 2015-31984 Filed 12-18-15; 8:45 am]

BILLING CODE 4338-11-P